DEPARTMENT OF LABOR

Employment and Training Administration

[TA-W-82,504]

Cardinal Health 200, LLC, a Wholly Owned Subsidiary of Cardinal Health, Inc., Medical-Presource Manufacturing, Monte Briner Building, Including On-Site Leased Workers From Adecco USA, Inc., Countryside Association, and Executive Building Maintenance and Including Workers Whose Unemployment Insurance (UI) Wages Are Reported Through Allegiance Healthcare Corporation DBA Allegiance Healthcare, Waukegan, Illinois; Amended Certification Regarding Eligibility To Apply for Worker Adjustment Assistance

In accordance with Section 223 of the Trade Act of 1974, as amended (“Act”), 19 U.S.C. 2273, the Department of Labor issued a Certification of Eligibility to Apply for Worker Adjustment Assistance on March 15, 2013, applicable to workers of Cardinal Health 200, LLC, a subsidiary of Cardinal Health, Inc., Medical-Presource Manufacturing, Monte Briner Building, including on-site leased workers from Adecco USA, Inc., Countryside Association, and Executive Building Maintenance, Waukegan, Illinois. The Department's notice of determination was published in the Federal Register on April 1, 2013 (78 FR 19532).

At the request of State Workforce Office, the Department reviewed the certification for workers of the subject firm. The workers are engaged in custom sterile surgical kits.

New information shows that some workers separated from employment at Cardinal Health 200, LLC had their wages reported through a separate unemployment insurance (UI) tax account under the name Allegiance Healthcare Corp. dba Allegiance Healthcare.

The intent of the Department's certification is to include all workers of the subject firm who were adversely affected by a shift of production of custom sterile surgical kits.

Accordingly, the Department is amending this certification to properly reflect this matter.

The amended notice applicable to TA-W-82,504 is hereby issued as follows:

All workers of Cardinal Health 200, LLC, a subsidiary of Cardinal Health, Inc., Medical-Presource Manufacturing, Monte Briner Building, including on-site leased workers from Adecco USA, Inc., Countryside Association, and Executive Building Maintenance, Waukegan, Illinois, including workers whose unemployment insurance (UI) wages are reported through Allegiance Healthcare Corp. dba Allegiance Healthcare, who became totally or partially separated from who became totally or partially separated from employment on or after February 25, 2012, through March 15, 2015, and all workers in the group threatened with total or partial separation from employment on date of certification through two years from the date of certification, are eligible to apply for adjustment assistance under Chapter 2 of Title II of the Trade Act of 1974, as amended.

Signed in Washington, DC, this 2nd day of May, 2013.
Michael W. Jaffe,
Certifying Officer, Office of Trade Adjustment Assistance.

[FR Doc. 2013-11479 Filed 5-14-13; 8:45 am]

BILLING CODE 4510-FN-P